DEPARTMENT OF ENERGY

Federal Energy Regulatory Commission

[Docket No. RP02-513-000]

Florida Gas Transmission Company; Notice of Proposed Changes in FERC Tariff

September 4, 2002.

Take notice that on August 29, 2002, Florida Gas Transmission Company (FGT) tendered for filing to become part of its FERC Gas Tariff, Third Revised Volume No. 1, the following tariff sheets, to become effective October 1, 2002:

Fifty-Fourth Revised Sheet No. 8A

Forty-Sixth Revised Sheet No. 8A.01

Forty-Sixth Revised Sheet No. 8A.02

Fourth Revised Sheet No. 8A.04

Forty-Ninth Revised Sheet No. 8B

Forty-Second Revised Sheet No. 8B.01

FGT states that the tariff sheets listed above are being filed pursuant to Section 27 of the General Terms and Conditions (GTC) of FGT's Tariff which provides for the recovery by FGT of gas used in the operation of its system and gas lost from the system or otherwise unaccounted for. The fuel reimbursement charges pursuant to Section 27 consist of the Fuel Reimbursement Charge Percentage (FRCP), designed to recover current fuel usage on an in-kind basis, and the Unit Fuel Surcharge (UFS), designed to recover or refund previous under or overcollections on a cash basis. Both the FRCP and the UFS are applicable to Market Area deliveries and are effective for seasonal periods, changing effective each April 1 (for the Summer Period) and each October 1 (for the Winter Period).

FGT states that it is filing herein to establish an FRCP of 3.01% to become effective October 1, 2002 based on the actual company fuel use, lost and unaccounted for volumes and Market Area deliveries for the period from October 1, 2001 through March 31, 2002. The proposed FRCP of 3.01%, to become effective October 1, 2002, is a decrease of 0.30 % from the currently effective FRCP of 3.31%. FGT is also filing herein to establish a Summer Period UFS of $0.0097 per MMBtu to become effective October 1, 2002, a decrease of $0.0057 per MMBtu from the currently effective UFS of $0.0154.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-22881 Filed 9-9-02; 8:45 am]

BILLING CODE 6717-01-P